DEPARTMENT OF THE TREASURY

Internal Revenue Service

Open Season for Membership to the Electronic Tax Administration Advisory Committee (ETAAC)

AGENCY: Internal Revenue Service (IRS), Department of the Treasury.

ACTION: Request for nominations and applications.

SUMMARY: The Internal Revenue Service (IRS) requests nominations for individuals to be considered for membership on the ETAAC. Nominations may be received from individuals and outside groups that wish to have representatives on the ETAAC. Nominations should describe the candidate's qualifications for ETAAC membership. Submittal of an application and resume is required.

The ETAAC provides an organized public forum for discussion of electronic tax administration issues in support of the overriding goal that paperless filing should be the preferred and most convenient method of filing tax and information returns. ETAAC members convey the public's perception of IRS electronic tax administration activities, offer constructive observations about current or proposed policies, programs, and procedures, and suggest improvements.

The IRS seeks a diverse group of individuals to represent various groups including: (1) Tax practitioners and preparers, (2) transmitters of electronic returns, (3) tax software developers, (4) large and small business, (5) employers and payroll service providers, (6) individual taxpayers, (7) financial industry (payers, payment options and best practices), (8) system integrators or technology providers, (9) academic (marketing, sales or technical perspectives), (10) trusts and estates, (11) tax exempt organizations, and (12) state and local governments.

This is a volunteer position and members will serve a three-year term on the ETAAC to allow for a rotation in membership which ensures that different perspectives are represented. Travel expenses within government guidelines will be reimbursed. Potential candidates must pass an IRS tax compliance check and Federal Bureau of Investigation (FBI) background investigation. Members of the ETAAC may not be federally registered lobbyists.

DATES: The complete application package must be received no later than Monday, April 21, 2014.

ADDRESSES: Applications should be sent to Internal Revenue Service, 5000 Ellin Road (M/Stop C4-470, Attn: ETAAC Analyst (C4-213), SE:WE:CAS:SP:IS Lanham, Maryland 20706, by email: etaac@irs.gov or by fax to (240) 613-6155 (not a toll-free number). An application can be obtained by sending an email to etaac@irs.gov or calling (240) 613-6155 (not a toll-free number).

FOR FURTHER INFORMATION CONTACT: Cassandra Daniels, (240) 613-6155 or send an email to etaac@irs.gov.

SUPPLEMENTARY INFORMATION: The establishment and operation of the Electronic Tax Administration Advisory Committee (ETAAC) is required by the Internal Revenue Service (IRS) Restructuring and Reform Act of 1998 (RRA'98), Title II, Section 2001 (b) (2). ETAAC follows a charter in accordance with the provisions of the Federal Advisory Committee Act (FACA), 5 U.S.C., App. 2. The ETAAC provides continued input into the development and implementation of the IRS's strategy for electronic tax administration. The ETAAC will research, analyze, consider, and make recommendations on a wide range of electronic tax administration issues and will provide input into the development of the strategic plan for electronic tax administration. Members will provide an annual report to Congress by June 30th.

Applicants must complete the application, which includes describing and documenting your qualifications for membership to the Committee. Submit a short (one or two page) statement, including recent examples, addressing your specific skills and qualifications as they relate to the following: (1) E-filing employment tax and information returns; (2) Developing mobile or web applications, including understanding and designing for the customer experience; (3) Developing software product lines for small and midsized businesses; (4) Producing or processing large volumes of Form 1099; (5) Thinking and planning strategically in order to collaborate on issues and ideas in electronic tax administration; (6) Communicating (oral and written) issues and recommendations; (7) Working cooperatively across industry or business lines to achieve mutually acceptable solutions and recommendations; (8) Interacting effectively with a variety of personalities and backgrounds to achieve consensus often in a virtual environment; and (9) Adopting an IRS-centered mindset separate from personal or business-related perspectives that will benefit all taxpaying citizens. An acknowledgement of receipt will be sent to all applicants.

Equal opportunity practices will be followed in all appointments to the ETAAC in accordance with Department of Treasury and IRS policies. The IRS has a special interest in assuring that women and men, members of all races and national origins, and individuals with disabilities have an opportunity to serve on advisory committees: And therefore, extends particular encouragement to nominations from such appropriately qualified individuals.

Dated: February 19, 2014.
Diane L. Fox,
Manager, Industry Stakeholder Engagement and Strategy.

[FR Doc. 2014-04372 Filed 2-28-14; 8:45 am]

BILLING CODE 4830-01-P